DEPARTMENT OF HEALTH AND HUMAN SERVICES

National Institutes of Health

Proposed Collection; 60-Day Comment Request: National Institute on Minority Health and Health Disparities Research Endowments

SUMMARY: In compliance with the requirement of Section 3506(c)(2)(A) of the Paperwork Reduction Act of 1995, for opportunity for public comment on proposed data collection projects, the National Institute on Minority Health and Health Disparities (NIMHD), the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and for Further Information: To obtain a copy of the data collection plans and instruments, submit comments in writing, or request more information on the proposed project, contact: Nathan Stinson, Jr., Ph.D., MD, MPH, Director, Division of Extramural Scientific Programs, National Institute on Minority Health and Health Disparities, National Institutes of Health, 6707 Democracy Blvd., Suite 800, Bethesda, MD 20892-5465, or call non-toll free number (301-594-8704 or email your request including your address to: stinsonn@mail.nih.gov. Formal requests for additional plans and instruments must be requested in writing.

Comment Due Date: Comments regarding this information collection are best assured of having their full effect if received March 21, 2016.

Proposed Collection: National Institute on Minority Health and Health Disparities Research Endowments—0925—NEW—Existing Collection In Use without an OMB Number- National Institute on Minority Health and Health Disparities (NIMHD), National Institutes of Health (NIH).

Need and Use of Information Collection: The NIMHD Research Endowment Program builds research capacity and research infrastructure in order to facilitate minority health research and research regarding other health disparity populations at eligible institutions under sections 736 and 464z-4 of the Public Health Service Act (PHS Act). NIH regulations contains requirements that are subject to OMB approval under the Paperwork Reduction Act of 1995, as amended (44 U.S.C. chapter 35). Title 45 of the CFR, sections 52i.3(b)(2), 52i.4(a), 52i.4(c), 52i.5(a), 52i.9(b), 52i.11(b), and 52i.11(d) contain reporting and information collection requirements that are subject to OMB approval under the Paperwork Reduction Act. Title 45 of the CFR, sections 52i.10, 52i.11(a)(1), 52i.11(a)(2), 52i.11(a)(3), 52i.11(a)(4), and 52i.11(b) contain recordkeeping requirements that are subject to OMB review under the Paperwork Reduction Act. The respondents for this notice consist of institutions currently funded under Section 736 or Section 464z-4 of the PHS Act.

OMB approval is requested for 3 years. There are no costs to respondents other than their time. The total estimated annualized burden hours are 548.

Estimated Annualized Burden Hours
Citations | Number of respondents | Number of responses per respondent | Average time per response ( in hours) | Total burden hours
Reporting:
52i.3(b)(2) | 4 | 1 | 4 | 16
52i.4(a) | 4 | 1 | 1 | 4
52i.4(c) | 4 | 1 | 1 | 4
52i.5(a) | 4 | 1 | 22 | 88
52i.9(b) | 4 | 1 | 4 | 16
52i.11(b) | 12 | 1 | 15 | 180
52i.11(d) | 12 | 1 | 2 | 24
Subtotal |  |  | 49 | 332
Recordkeeping:
52i.10 | 12 | 1 | 2 | 24
52i.11(a)(1) | 12 | 1 | 2 | 24
52.i11(a)(2) | 12 | 1 | 2 | 24
52i11(a)(3) | 12 | 1 | 2 | 24
52i11(a)(4) | 12 | 1 | 2 | 24
52.i11(b) | 12 | 1 | 8 | 96
Subtotal |  |  | 18 | 216
Total |  |  | 67 | 548

Dated: January 11, 2016.
Eliseo Pérez-Stable,
Director, NIMHD.

[FR Doc. 2016-01080 Filed 1-20-16; 8:45 am]

BILLING CODE 4140-01-P